DEPARTMENT OF DEFENSE

Department of the Army, Corps of Engineers

Intent To Prepare a Legislative Environmental Impact Statement, for the Proposed Mississippi River—Gulf Outlet Deep Draft De-Authorization (3-D), LA

AGENCY: Department of the Army, U.S. Army Corps of Engineers, DoD.

ACTION: Notice of intent.

SUMMARY: This notice of intent (NOI) is for the Mississippi River—Gulf Outlet (MRGO) 3-D Project. This notice of intent addresses the Federally authorized navigation channel located in southeastern Louisiana.

FOR FURTHER INFORMATION CONTACT: Questions about the proposed action and Legislative Environmental Impact Statement can be answered by: Mr. Sean P. Mickal, 504 862-2319, CEMVN-PM-RS, P.O. Box 60267, New Orleans, LA 70160-0267.

SUPPLEMENTARY INFORMATION: The MRGO is a Federally-authorized 36-foot deep, 500-foot bottom width waterway which allows deep-draft access to New Orleans area port facilities via a shorter route than using the Mississippi River. Congress authorized MRGO channel construction in the River and Harbor Act of 1956. Public Law 84-445, 70 Stat. 65 states: “Be it enacted by the Senate and House of Representatives of the United States of America Congress assembled, that the existing project for the Mississippi River, Baton Rouge to the Gulf of Mexico, is hereby modified to provide for the Mississippi River-Gulf Outlet to be constructed under the direction of the Secretary of the Army and supervision of the Chief of Engineers, substantially in accordance with the recommendation of the Chief of Engineers contained in House Document 245, Eighty-Second Congress, at an estimated cost of $88,000,000 * * .*”

The LEIS would accompany the MRGO 3-D report to Congress being prepared to aid in identifying a comprehensive plan for de-authorizing deep-draft navigation on the MRGO from the Gulf Intracoastal Waterway (GIWW) to the Gulf of Mexico. Public Law 109-234, the Emergency Supplemental Appropriations Act for Defense, the Global War on Terror, and Hurricane Recovery, 2006, reads in part: “* * * the Secretary of the Army, acting through the Chief of Engineers, utilizing $3,300,000 of the funds provided herein shall develop a comprehensive plan, at full Federal expense, to de-authorize deep-draft navigation on the Mississippi River-Gulf Outlet, Louisiana, extending from the Gulf of Mexico to the Gulf Intracoastal Waterway: Provided further, That, not later than 6 months after the date of enactment of this Act, the Secretary shall submit an interim report to Congress comprising the plan: Provided further, That the Secretary shall refine the plan, if necessary, to be fully consistent, integrated, and included in the final report to be issued in December 2007 for the Louisiana Coastal Protection and Restoration Plan.”

1. Proposed Action and Reasonable Alternatives: Congress has directed the Secretary of the Army, acting through the Chief of Engineers, to plan for de-authorization of deep-draft navigation on the MRGO. Congress has authorized the United States Army Corps of Engineers (USACE) to prepare a comprehensive plan to de-authorize deep-draft navigation on the MRGO channel and has also encouraged the USACE to identify any measures for hurricane and storm damage reduction. An Interim Report titled, Mississippi River Gulf Outlet, Deep-Draft De-Authorization, Interim Report to Congress, was submitted to Congress in December 2006. The Interim Report compared options for a comprehensive plan for de-authorization of deep-draft navigation on the MRGO. The Final Report and LEIS would identify a tentatively selected plan and that tentatively selected plan would be integrated with the on-going Louisiana Coastal Protection and Restoration Study (LACPR).

Alternative 1 (Interim Report Option 2a)—Construct a Dam across the MRGO at Bayou La Loutre: The existing Congressional authorization for the MRGO channel would either be modified or a new authorization would be recommended to de-authorize deep-draft navigation and construct a dam. No additional Federal funds would be appropriated to maintain any navigation channel on the MRGO between the GIWW and the Gulf of Mexico; except authority may be requested to maintain existing wetland protection features along the MRGO. The dam would be constructed just south of Bayou La Loutre and would tie in with the southern Bayou La Loutre Ridge to completely block the MRGO channel. The structure would not allow passage of vessels traveling the length of the MRGO. Relic features, such as jetties and aids to navigation, would be considered for removal and/or reapplication. Construction of the closure would be completed within two years of authorization, pending receipt of Congressional appropriations.

Alternative 2 (Interim Report Option 2a (phased))—Construct a Dam across the MRGO at Bayou La Loutre in Two Phases (Construct a Weir in Phase I; convert Weir to a full-closure dam in Phase II when depth of any portion of the channel measures 14 feet or less): The existing Congressional authorization for the MRGO channel would either be modified or a new authorization would be recommended to de-authorize deep-draft navigation and construct a dam. No additional Federal funds would be appropriated to maintain any navigation channel on the MRGO between the GIWW and the Gulf of Mexico; except authority may be requested to maintain existing wetland protection features along the MRGO. A dam would be constructed just south of Bayou La Loutre in two phases and would tie in with the southern Bayou La Loutre Ridge to totally block the MRGO channel. The first phase would be construction of a dam containing a weir 125-feet wide by 14 feet deep (The weir would be set at 14 feet to allow safe passage of 12-foot draft vessels). Once any reach of the channel shoaled in to a depth of less than 14-feet, the second phase of construction would begin. It is estimated that some reaches of the MRGO would become impassible to vessels greater than a 12-foot draft in approximately 2014. The second phase of construction would complete total closure of the MRGO by closing the weir. The completed structure would not allow passage of vessels traveling the length of the MRGO. Relic features, such as jetties and aids to navigation, would be considered for removal and/or reapplication. Phase one construction of the closure would be completed within two years of receipt of Congressional appropriations; and phase two would be completed when the depth of the navigation channel is less than 14 feet deep and Congressional appropriations are provided.

Alternative 3 (Interim Report Option 3)—Cease All MRGO Navigation Channel Operations and Maintenance Dredging: The existing Congressional authorization for the MRGO channel would either be modified or a new authorization would be recommended to de-authorize deep-draft navigation. No additional Federal funds would be appropriated to maintain any navigation channel on the MRGO between the GIWW and the Gulf of Mexico; except authority may be requested to maintain existing wetland protection features along the MRGO. Relic features, such as jetties and aids to navigation, would be considered for removal and/or reapplication. Under this option, commercial and recreational shallow-draft vessels could still use the MRGO until the navigation channel shoals in to a depth prohibiting navigation. It is estimated that some reaches of the MRGO would become impassible to vessels greater than a 12-foot draft by approximately 2014.

2. Stakeholder Involvement: Stakeholder involvement for this proposed action is integral to the project. Interested parties, concerned citizens, other state and Federal agencies, and private and not for profit or non-governmental organizations are strongly encouraged to participate in the development of the proposed action. Stakeholder meetings would be held throughout project development. Meeting announcements would be made as information becomes available.

3. Significant Issues: The list of important resources and issues that would be evaluated in the EIS include, but are not limited to tidally influenced coastal wetlands (marshes and swamps), fisheries resources, wildlife resources, essential fish habitat, water quality, air quality, threatened and endangered species, recreation resources, and cultural resources. Socioeconomic items that would be evaluated in the EIS include navigation, business and industrial activity, employment, and community cohesion.

4. Interagency Coordination and Cooperation: The following agencies have been informally invited to participate in the study on the LEIS: Minerals Management Service, National Marine Fisheries Service, Natural Resources Conservation Service, U.S. Environmental Protection Agency, U.S. Fish and Wildlife Service, U.S. Geological Service, Louisiana Department of Environmental Quality, Louisiana Department of Natural Resources, and the Louisiana Department of Wildlife and Fisheries. The U.S. Fish and Wildlife Service would provide a Fish and Wildlife Coordination Act Report. Coordination would be maintained with the U.S. Fish and Wildlife Service and the National Marine Fisheries Service regarding threatened and endangered species under their respective jurisdictional responsibilities. Coordination would be maintained with the National Marine Fisheries Service regarding essential fish habitat. Coordination would be maintained with the Natural Resources Conservation Service regarding prime and unique farmlands. Coordination would be maintained with the Advisory Counsel on Historic Preservation and the State Historic Preservation Officer. The Louisiana Department of Natural Resources would be consulted regarding consistency with the Coastal Zone Management Act. The Louisiana Department of Wildlife and Fisheries would be contacted concerning potential impacts to Natural and Scenic Streams.

5. Environmental Consultation and Review: The U.S. Fish and Wildlife Service (USFWS) would be assisting in the documentation of existing conditions and assessment of effects of project alternatives through Fish and Wildlife Coordination Act consultation procedures. The USFWS would also provide a Fish and Wildlife Coordination Act report. Consultation would also be accomplished with the USFWS and the National Marine Fisheries Service (NMFS) concerning threatened and endangered species and their critical habitat. The NMFS would be consulted on the effects of this proposed action on Essential Fish Habitat. The draft EIS or a notice of its availability would be distributed to all interested agencies, organizations, and individuals.

6. Public Scoping Meeting: Scoping meetings are not required (40 CFR 1506.8 Proposals for legislation (b)(1)) when preparing a LEIS. However, as indicated in Section 2, Stakeholder Involvement, an intensive public engagement program would continue throughout the study to solicit input from affected or interested parties.

7. Estimated Date of Availability: The earliest date the LEIS is expected to be available is May of 2007.

Dated: April 4, 2007.
Richard P. Wagenaar,
Colonel, U.S. Army, District Commander.

[FR Doc. E7-7086 Filed 4-12-07; 8:45 am]

BILLING CODE 3710-84-P